INTERNATIONAL TRADE COMMISSION

[Investigation No. 337-TA-930]

Certain Laser Abraded Denim Garments; Notice of Commission Decision Amending the Notice of Investigation and Extending the Target Date

AGENCY: U.S. International Trade Commission.

ACTION: Notice.

SUMMARY: Notice is hereby given that the U.S. International Trade Commission has determined not to review the presiding administrative law judge's (“ALJ”) initial determination (“ID”) (Order No. 20) granting a motion to amend the complaint and notice of investigation to add new respondents, and to extend the target date for completion of the above-captioned investigation by four months.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission TDD terminal on (202) 205-1810.

SUPPLEMENTARY INFORMATION: The Commission instituted this investigation on September 23, 2014, based on a complaint filed by RevoLaze, LLC and TechnoLines, LLC, both of Westlake, Ohio (collectively, “RevoLaze”). 79 FR 56828 (Sept. 23, 2014). The complaint alleged violations of section 337 of the Tariff Act of 1930, as amended 19 U.S.C. 1337, by reason of the importation into the United States, the sale for importation, and the sale within the United States after importation of certain laser abraded denim garments. The complaint alleged the infringement of seventy-one claims of six United States patents. The notice of institution named twenty respondents.

On January 7, 2015, RevoLaze filed an unopposed motion to amend the complaint and notice of investigation. In particular, RevoLaze sought to add as proposed respondents certain third-party suppliers of the existing respondents. The proposed new respondents are: Crystal Apparel Ltd. of Kowloon, Hong Kong; Denim Service S.p.A. of Mason Vincento, Italy; Denimatrix S.A. of Guatemala City, Guatemala; Eroglu Giyin San Tic AS of Avcilar-Istanbul, Turkey; Martelli Lavorazioni Tessili S.p.A. of Toscanella, Italy; Modelos Yasiro (Tepeji del Rio) SA DE CV of Tepeji del Rio, Mexico; Private Label Tehuacan, of Puebla, Mexico; Ropa Siete Leguas, Inc. of El Paso, Texas; and Ropa Siete Leguas S.A. de C.V. of Durango, Mexico (“RSL Durango”). RevoLaze also argued that it was necessary to extend the target date to avoid prejudicing the proposed respondents.

On January 20, 2015, the respondents and Commission investigative attorney filed separate responses indicating that they do not oppose RevoLaze's motion, provided that the target date is also extended.

On January 23, 2015, the ALJ issued the subject ID granting the motion. Order No. 20. (The ID, like RevoLaze's motion, includes two addresses for RSL Durango. Id. at 4.) The ID extended the target date by four months, from February 23, 2016 to June 23, 2016. The ID explained that good cause exists for granting the motion in view of RevoLaze's difficulty in obtaining third-party discovery from the proposed respondents and because the “public interest will be served by the inclusion of Proposed Respondents and Respondents in a single investigation.” Id. at 2-3.

No petitions for review of the ID were filed. The Commission has determined not to review the ID.

The authority for the Commission's determination is contained in section 337 of the Tariff Act of 1930, as amended (19 U.S.C. 1337), and in Part 210 of the Commission's Rules of Practice and Procedure (19 CFR part 210). By order of the Commission.

Dated: February 10, 2015.
Lisa R. Barton,
Secretary to the Commission.

[FR Doc. 2015-03010 Filed 2-12-15; 8:45 am]

BILLING CODE 7020-02-P